DEPARTMENT OF JUSTICE

Notice of Proposed Consent Decree Under the Clean Air Act

Notice is hereby given that on March 31, 2010, two proposed Consent Decrees were lodged. United States et al. v. Shell Chemical LP, Civil Action No. 4:10-cv-01042, was lodged with the United States District Court for the Southern District of Texas. United States v. Shell Chemical Yabucoa, Inc., Civil Action No. 3:10-cv-1268, was lodged with the United States District Court for the District of Puerto Rico.

The Consent Decrees in these Clean Air Act enforcement actions against Shell Chemical LP and Shell Chemical Yabucoa, Inc. (collectively “Shell”) resolve allegations by the Environmental Protection Agency, asserted in complaints filed together with the Consent Decrees, under Section 113(b) of the Clean Air Act, 42 U.S.C. 7413(b), for alleged environmental violations at Shell Chemical LP's petroleum refineries in Saraland, Alabama and St. Rose, Louisiana, and at Shell Chemical Yabucoa, Inc.'s petroleum refinery in Yabucoa, Puerto Rico. The proposed Consent Decree in the Shell Chemical LP matter also resolves separate but related state law claims brought by co-plaintiffs Alabama and Louisiana.

These are two of numerous national settlements reached as part of the EPA's Clean Air Act Petroleum Refinery Initiative. Consistent with the objectives of EPA's national initiative, in addition to the payment of civil penalties, the settlements require Shell to perform injunctive relief to reduce emissions of nitrogen oxides, sulfur dioxide, volatile organic compounds, and benzene.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matters as United States et al. v. Shell Chemical LP, DOJ Ref. No. 90-5-2-1-08703 and/or United States v. Shell Chemical Yabucoa, Inc., DOJ. Ref. No. 90-5-2-1-08703/1.

Both proposed Consent Decrees may be examined at the following Regional Offices of the United States Environmental Protection Agency: Region 2, 290 Broadway, New York, New York 10007-1866; Region 4, Sam Nunn Atlanta Federal Center, 61 Forsyth Street, SW., Atlanta, GA 30303-8960; and Region 6, 1445 Ross Avenue, Suite 1200, Dallas, Texas 75202. The Consent Decree addressing Shell Chemical Yabucoa, Inc.'s facility in Yabucoa, Puerto Rico may also be examined at the Office of the United States Attorney, Torre Chardon, Suite 1201, 350 Carlos Chardon Avenue, San Juan, Puerto Rico 00918.

During the public comment period, the proposed agreements may also be examined on the following Department of Justice Web site: http://www.usdoj.gov/enrd/Consent_Decrees.html. Copies of the proposed agreements may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States et al. v. Shell Chemical LP, Civil Action No. 4:10-cv-01042 (S.D. Tx), please enclose a check in the amount of $29.25 (25 cents per page reproduction cost) payable to the U.S. Treasury. In requesting from the Consent Decree Library a copy of the consent decree for United States v. Shell Chemical Yabucoa, Inc., Civil Action No. 3:10-cv-1268, please enclose a check in the amount of $15.75 (25 cents per page reproduction cost) payable to the U.S. Treasury.

Maureen Katz,
Assistant Chief, Environmental Enforcement Section, Environment and Natural Resources Division.

[FR Doc. 2010-8086 Filed 4-8-10; 8:45 am]

BILLING CODE 4410-15-P